DEPARTMENT OF ENERGY

Federal Energy Regulatory Commission

Combined Notice of Filings # 1

March 26, 2008.

Take notice that the Commission received the following electric corporate filings:

Docket Numbers: EC08-55-000.

Applicants: Blue Canyon Windpower, LLC; Blue Canyon Windpower II LLC; Flat Rock Windpower LLC; Flat Rock Windpower II LLC; High Prairie Wind Farm II, LLC; High Trail Wind Farm, LLC; Old Trail Wind Farm, LLC; Telocaset Wind Power Partners, LLC.

Description: Application for authorization for Dispositon of Jurisdictional Facilities and Request for Expedited Action of Blue Canyon Windpower LLC et al.

Filed Date: 03/17/2008.

Accession Number: 20080320-0054.

Comment Date: 5 p.m. Eastern Time on Monday, April 07, 2008.

Docket Numbers: EC08-58-000.

Applicants: Oklahoma Gas and Electric Company; Redbud Energy, LP.

Description: Oklahoma Gas and Electric Company et al forwards Volumes I and II of a Joint Application for authorization for Disposition of Jurisdictional Facilities under Section 203 of the FPA.

Filed Date: 03/20/2008.

Accession Number: 20080324-0013.

Comment Date: 5 p.m. Eastern Time on Thursday, April 10, 2008.

Take notice that the Commission received the following exempt wholesale generator filings:

Docket Numbers: EG08-51-000.

Applicants: Twin Cities Hydro LLC.

Description: EWG Self Certification Notice of Twin Cities Hydro LLC.

Filed Date: 03/25/2008.

Accession Number: 20080326-5007.

Comment Date: 5 p.m. Eastern Time on Tuesday, April 15, 2008.

Take notice that the Commission received the following electric rate filings:

Docket Numbers: ER91-195-000; EL07-69-000.

Applicants: Western Systems Power Pool.

Description: Western Energy, Inc and Kansas Gas and Electric Co submits a compliance filing to support Westar's continued use of the “up to” demand charge in the Western Systems Power Pool Agreement etc under ER91-195 et al.Filed Date: 03/18/2008.

Accession Number: 20080320-0219.

Comment Date: 5 p.m. Eastern Time on Tuesday, April 08, 2008.

Docket Numbers: ER91-195-000; ER96-719-000; EL07-69-000.

Applicants: Western Systems Power Pool; MidAmerican Energy Company.

Description: MidAmerican Energy Co notifies FERC that it does not intend to utilize the cost-based demand charges in the Western Systems Power Pool & submits its compliance filing.

Filed Date: 03/18/2008.

Accession Number: 20080320-0218.

Comment Date: 5 p.m. Eastern Time on Tuesday, April 08, 2008.

Docket Numbers: ER97-1481-012.

Applicants: Idaho Power Company.

Description: Idaho Power Company submits a notice of change in status.

Filed Date: 03/21/2008.

Accession Number: 20080325-0248.

Comment Date: 5 p.m. Eastern Time on Friday, April 11, 2008.

Docket Numbers: ER98-1643-012.

Applicants: Portland General Electric Company.

Description: Portland General Electric Company submits Original Sheet 1 et al to FERC Electric Tariff, Sixth Revised Volume 11 pursuant to the requirements of Order 697.

Filed Date: 03/20/2008.

Accession Number: 20080324-0002.

Comment Date: 5 p.m. Eastern Time on Thursday, April 10, 2008.

Docket Numbers: ER98-4159-012; ER04-268-009; ER06-398-006; ER06-399-006; ER07-157-004.

Applicants: Duquesne Light Company; Duquesne Power, LLC; Duquesne Keystone, LLC; Duquesne Conemaugh, LLC; Macquarie Cook Power Inc.

Description: Duquesne Light Company et al submits notice of change in status related to the inception of a coal trading business by an affiliated company.

Filed Date: 03/24/2008.

Accession Number: 20080325-0250.

Comment Date: 5 p.m. Eastern Time on Monday, April 14, 2008.

Docket Numbers: ER00-1712-008; ER02-2408-003; ER00-744-006; ER00-1703-003; ER02-1327-005; ER02-1749-003; ER02-1747-003; ER99-4503-005; ER00-2186-003; ER01-1559-004.

Applicants: PPL Electric Utilities Corporation; Lower Mount Bethel Energy, LLC; PPL Brunner Island, LLC,PPL Holtwood, LLC,PPL Martins Creek, LLC,PPL Susquehanna, LLC; PPL University Park, LLC; PPL EnergyPlus, LLC; PPL Edgewood Energy, LLC; PPL Great Works, LLC; PPL Maine, LLC; PPL Wallingford Energy LLC.

Description: PPL Northeast Companies submit an informational filing with respect to the Triennial Market Power Update under ER00-1712 et al.

Filed Date: 03/21/2008.

Accession Number: 20080326-0179.

Comment Date: 5 p.m. Eastern Time on Friday, April 11, 2008.

Docket Numbers: ER04-230-034.

Applicants: New York Independent System Operator, Inc.

Description: New York Independent System Operator submits proposed compliance revisions to its Market Administration and Control Area Services Tariff and submit an errata to this filing on 3/25/08.

Filed Date: 03/24/2008; 03/25/2008.

Accession Number: 20080326-0206; 20080326-0180.

Comment Date: 5 p.m. Eastern Time on Monday, April 14, 2008.

Docket Numbers: ER05-1422-005.

Applicants: Calpine Merchant Services Company, Inc.

Description: Calpine Corp's amends the Order 697 compliance filing by submitting Substitute Original Sheet 1 and 2 to FERC Electric Tariff 1, First Revised Volume 1.

Filed Date: 03/21/2008.

Accession Number: 20080325-0296.

Comment Date: 5 p.m. Eastern Time on Wednesday, April 2, 2008.

Docket Numbers: ER07-881-003.

Applicants: Alliant Energy Corporate Services, Inc.

Description: Alliant Energy Services, Inc submits their First Revised Sheet 1 et al to FERC Electric Rate Schedule 5, pursuant to FERC's 8/21/07 Order.

Filed Date: 03/20/2008.

Accession Number: 20080326-0204.

Comment Date: 5 p.m. Eastern Time on Thursday, April 10, 2008.

Docket Numbers: ER08-461-001.

Applicants: Wisconsin Public Service Corporation.

Description: Minnesota Power submits a revised Rate Schedule 181 in compliance with Order 614.

Filed Date: 03/21/2008.

Accession Number: 20080324-0023.

Comment Date: 5 p.m. Eastern Time on Friday, April 11, 2008.

Docket Numbers: ER08-637-001.

Applicants: Midwest Independent Transmission System Operator, Inc.

Description: Midwest Independent Transmission Operator, Inc informs FERC that they submitted its Open Access Transmission and Energy Markets Tariff in March 4 Filing relating to the implementation of certain Coordination Services.

Filed Date: 03/24/2008.

Accession Number: 20080325-0297.

Comment Date: 5 p.m. Eastern Time on Monday, April 14, 2008.

Docket Numbers: ER08-693-000; EC08-57-000.

Applicants: NRG Southaven LLC; Southaven Power, LLC.

Description: NRG Southaven, LLC's et al. application for authorization of the disposition of jurisdictional facilities under Section 203 of the Federal Power Act, request for waivers of Order 888, 889 & 890, shortened notice period, & expedited action,.

Filed Date: 03/20/2008.

Accession Number: 20080324-0011.

Comment Date: 5 p.m. Eastern Time on Thursday, April 10, 2008.

Docket Numbers: ER08-696-000.

Applicants: ISO New England Inc. and New England Power Pool Participants Committee.

Description: ISO New England, Inc and New England Power Pool Participants Committee submits materials which identify the monthly Installed Capacity Requirements for the 2008/2009 Capability Year.

Filed Date: 03/21/2008.

Accession Number: 20080324-0022.

Comment Date: 5 p.m. Eastern Time on Friday, April 11, 2008.

Docket Numbers: ER08-697-000.

Applicants: ISO New England Inc. and New England Power Pool Participants Committee.

Description: ISO New England, Inc and New England Power Pool Participants Committee submits revised tariff sheets and supporting joint testimony of Marc D Montalvo et al. re proposed revisions to Market Rule 1 etc.

Filed Date: 03/21/2008.

Accession Number: 20080324-0024.

Comment Date: 5 p.m. Eastern Time on Friday, April 11, 2008.

Docket Numbers: ER08-698-000.

Applicants: PJM Interconnection, L.L.C.

Description: PJM Interconnection, LLC submits an executed interconnection service agreement among PJM, PPL Holtwood LLC and PPL Electric Utilities Corporation and a notice of cancellation of an ISA being superseded.

Filed Date: 03/24/2008.

Accession Number: 20080325-0298.

Comment Date: 5 p.m. Eastern Time on Monday, April 14, 2008.

Docket Numbers: ER08-699-000.

Applicants: New York Independent System Operator, Inc.

Description: New York Independent System Operator, Inc et al. submits an executed Large Generator Interconnection Agreement as the Transmission Provider, NYPA as the Transmission, Owner, & Noble Ellenburg Windpark, LLC.

Filed Date: 03/24/2008.

Accession Number: 20080325-0386.

Comment Date: 5 p.m. Eastern Time on Monday, April 14, 2008.

Docket Numbers: ER08-700-000.

Applicants: California Independent System Operator Corporation.

Description: California Independent System Operator Corp submits their informational filing regarding the revised transmission Access Charges, effective 1/1/08.

Filed Date: 03/25/2008.

Accession Number: 20080326-0203.

Comment Date: 5 p.m. Eastern Time on Tuesday, April 15, 2008.

Docket Numbers: ER08-701-000.

Applicants: ProLiance Energy, LLC.

Description: ProLiance Energy, LLC submits a Notice of Cancellation of their FERC Electric Tariff, First Revised Volume 1.

Filed Date: 03/25/2008.

Accession Number: 20080326-0202.

Comment Date: 5 p.m. Eastern Time on Tuesday, April 15, 2008.

Docket Numbers: ER08-702-000.

Applicants: Allegheny Energy Supply Company, LLC.

Description: Allegheny Energy Supply Co, LLC requests for authorization to make wholesale power sales to Potomac Edison Co etc.

Filed Date: 03/25/2008.

Accession Number: 20080326-0205.

Comment Date: 5 p.m. Eastern Time on Tuesday, April 15, 2008.

Take notice that the Commission received the following electric securities filings:

Docket Numbers: ES08-38-000.

Applicants: Midwest Independent Transmission System Operator.

Description: Application of the Midwest ISO under Section 204 of the FPA to Issue Securities.

Filed Date: 03/25/2008.

Accession Number: 20080325-5071.

Comment Date: 5 p.m. Eastern Time on Tuesday, April 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-6727 Filed 4-1-08; 8:45 am]

BILLING CODE 6717-01-P